ENVIRONMENTAL PROTECTION AGENCY

40 CFR Part 52

[EPA-R01-OAR-2010-0445; A-1-FRL-9267-9]

Approval and Promulgation of Air Quality Implementation Plans; Massachusetts; Revised Carbon Monoxide Maintenance Plan for Lowell

AGENCY: Environmental Protection Agency (EPA).

ACTION: Proposed rule.

SUMMARY: EPA is proposing to approve a State Implementation Plan (SIP) revision submitted by the State of Massachusetts. This SIP submittal contains revisions to the carbon monoxide (CO) maintenance plan for Lowell, Massachusetts. Specifically, Massachusetts has revised the contingency plan portion of the original maintenance plan. The intended effect of this action is to propose approval of this revision to the Lowell CO maintenance plan. This action is being taken in accordance with the Clean Air Act.

DATES: Written comments must be received on or before March 21, 2011.

ADDRESSES: Submit your comments, identified by Docket ID Number EPA-R01-OAR-2010-0445 by one of the following methods:

1. http://www.regulations.gov: Follow the on-line instructions for submitting comments.

2. E-mail: arnold.anne@epa.gov.

3. Fax: (617) 918-0047.

4. Mail: “Docket Identification Number EPA-R01-OAR-2010-0445”, Anne Arnold, U.S. Environmental Protection Agency, EPA New England Regional Office, Office of Ecosystem Protection, Air Quality Planning Unit, 5 Post Office Square—Suite 100, (Mail code OEP05-2), Boston, MA 02109-3912.

5. Hand Delivery or Courier. Deliver your comments to: Anne Arnold, Manager, Air Quality Planning Unit, U.S. Environmental Protection Agency, EPA New England Regional Office, Office of Ecosystem Protection, Air Quality Planning Unit, 5 Post Office Square—Suite 100, (mail code OEP05-2), Boston, MA 02109-3912. Such deliveries are only accepted during the Regional Office's normal hours of operation. The Regional Office's official hours of business are Monday through Friday, 8:30 to 4:30, excluding legal holidays.

Instructions: Direct your comments to Docket ID No. EPA-R01-OAR-2010-0445. EPA's policy is that all comments received will be included in the public docket without change and may be made available online at http://www.regulations.gov, including any personal information provided, unless the comment includes information claimed to be Confidential Business Information (CBI) or other information whose disclosure is restricted by statute. Do not submit through http://www.regulations.gov, or e-mail, information that you consider to be CBI or otherwise protected. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 to 4:30, excluding legal holidays.

In addition, copies of the State submittal and EPA's technical support document are also available for public inspection during normal business hours, by appointment at the State Air Agency; Division of Air Quality Control, Department of Environmental Protection, One Winter Street, 8th Floor, Boston, MA 02108.

FOR FURTHER INFORMATION CONTACT: Anne K. McWilliams, Air Quality Planning Unit, U.S. Environmental Protection Agency, EPA New England Regional Office, Office of Ecosystem Protection, 5 Post Office Square—Suite 100, (mail code OEP05-2), Boston, MA 02109-3912, telephone number (617) 918-1697, fax number (617) 918-0697, e-mail mcwilliams.anne@epa.gov.

SUPPLEMENTARY INFORMATION:

Table of Contents

I. Background and Purpose

II. What action is EPA taking?

III. Summary of SIP Revision

IV. EPA's Evaluation of the SIP Revision

V. Proposed Action

VI. Statutory and Executive Order Reviews

I. Background and Purpose

On April 14, 2010, the Massachusetts Department of Environmental Protection (DEP) submitted a revision to its State Implementation Plan (SIP) for Massachusetts. The SIP revision consists of a minor modification to the carbon monoxide (CO) maintenance plan for Lowell, Massachusetts. (A redesignation request and a maintenance plan for the Lowell CO nonattainment area were approved by EPA on February 19, 2002 (67 FR 7272).) The modification changes the triggering mechanism which will be used by the State to determine if contingency measures need to be implemented in Lowell.

II. What action is EPA taking?

EPA is proposing to approve revisions to the Lowell carbon monoxide maintenance plan submitted by the State of Massachusetts on April 14, 2010. Specifically, EPA is proposing approval of the State's modification of the portion of the maintenance plan used to determine when contingency measures need to be triggered to reduce CO concentrations in Lowell. This proposed action, if finalized, would allow the discontinuation of CO monitoring in the Lowell maintenance area.

Massachusetts's SIP revision and EPA's evaluation of this SIP revision are discussed below. Additional details are also provided in a memorandum dated January 24, 2011, entitled “Technical Support Document for Revision to the Carbon Monoxide Maintenance Plan for Lowell, Massachusetts” (TSD). The TSD and Massachusetts's submittal are available in the docket supporting this action.

III. Summary of SIP Revision

On April 14, 2010, the Massachusetts Department of Environmental Protection submitted a SIP revision to EPA that contains a modification to its CO maintenance plan for the Lowell CO maintenance area. The modifications to the maintenance plan change the triggering mechanism by which contingency measures would be implemented and will allow the State to discontinue CO monitoring in the Lowell maintenance area. CO concentrations measured in Lowell have been below the National Ambient Air Quality Standard (NAAQS) for nearly 25 years, and in recent years, maximum measured concentrations have been less than 30% of the 9 parts per million (ppm) 8-hour CO standard.¹ In this SIP revision, the State of Massachusetts is establishing an alternative triggering mechanism, which will rely on CO data from a nearby CO monitor in Worcester, Massachusetts.

¹ On January 28, 2011, EPA proposed to retain the existing CO standard. In this action, EPA also proposed an increase in near-road CO monitoring. Due to the low CO concentrations recorded at the Lowell monitor and the applicable monitor siting criteria, this monitor would not meet the requirements for a near-road monitor.

Under the current maintenance plan, contingency measures in Lowell are triggered when a violation of the CO NAAQS is measured in Lowell. Under the revised maintenance plan, Massachusetts will rely on data from the Worcester CO monitor to determine when and if monitoring will be reestablished in the Lowell maintenance area, and, in some circumstances, when contingency measures will be triggered in the Lowell maintenance area.

If this proposal is finalized, Massachusetts will discontinue CO monitoring in Lowell. Massachusetts DEP will continue to collect and review CO monitoring data from nearby Worcester, MA on an on-going basis. In the event the second highest CO concentration in any calendar year monitored in Worcester reaches 75 percent of the Federal 1-hour or 8-hour NAAQS for CO (35 and 9 ppm, respectively), Massachusetts will, within 9 months of recording such concentrations, re-establish a CO monitoring site in Lowell consistent with EPA siting criteria, and resume analyzing and reporting those data. Massachusetts will continue to commit to implement its contingency program in Lowell in the event that a CO violation (the “contingency trigger”) is monitored at the re-established Lowell monitoring site at any time during the maintenance period and to consider one or more of the other EPA-approved measures listed in the 2001 Maintenance Plan if necessary to reduce CO levels.

If the Worcester CO monitor measures a violation of either the Federal 1-hour or 8-hour NAAQS for CO, the contingency measures in 2001 Maintenance Plan for Lowell will be implemented in Lowell, as well as triggering contingency measures in Worcester under the terms of the existing Maintenance Plan for Worcester, until a re-established Lowell CO monitor shows that the area is attainment of the CO standard.

When implementing contingency measures, Massachusetts will review and implement the measures necessary to remedy the violation, including transportation control measures (TCM) or other additional vehicle or fuel controls.

IV. EPA's Evaluation of the SIP Revision

EPA agrees that the mechanism described above represents an acceptable contingency triggering mechanism for the Lowell CO maintenance plan. If the proposed approval of this revised triggering mechanism is finalized, Massachusetts DEP will be allowed to discontinue monitoring in the Lowell area, which we believe is appropriate for this area which is currently measuring concentrations well below the 1-hour and 8-hour CO NAAQS. Under this plan, we believe air quality goals can be maintained, and State monitoring resources conserved.

On October 17, 2006, EPA published a final monitoring rule revising minimum monitoring requirements, which was codified in 40 CFR part 58. (See 71 FR 61236.) That rule explicitly recognized that, in some cases where measured levels of pollutants are low, shutting down certain CO monitors may be allowed without revising the SIP. (See 40 CFR 58.14(c)(1)-(6).) The rule, however, also explicitly provides that if a monitor is the only monitor in the area, and it serves as a trigger to implement a contingency measure in an EPA-approved maintenance plan, then the monitor may not be discontinued. (See 40 CFR 58.14(c)(1).) Rather, in this case the maintenance plan would need to be revised, and the trigger replaced. (See 71 FR 61250 and 71 FR 61301.)

As described above, this action is proposing to approve a change to the mechanism that Massachusetts will use to determine when contingency measures need to be triggered to reduce CO concentrations in Lowell. Previously, the State would implement a contingency measure based on concentrations of CO monitored in Lowell. In light of the fact that Lowell CO concentrations have been well below the standard for some time, the State is looking to conserve resources. Massachusetts DEP wants to use its CO monitor in Worcester, a nearby city, to aid in determining if Lowell has a CO problem. Lowell and Worcester are located 42 miles apart. Worcester (population 175,011) ² is somewhat larger than Lowell (population 103,615) ³, so its CO concentrations can be expected to be slightly higher due to greater motor vehicle emissions. CO concentrations in Lowell and Worcester have tracked very closely for many years. (The TSD provides a comparison of the data collected at the Lowell and Worcester CO monitors over the last twenty-five years.) Both cities were designated nonattainment in 1990 for CO “by operation of law,” though both had design values below the standard at that time. In both cases, only the city itself was designated nonattainment since data did not support an expansion of the nonattainment area. Both cities were redesignated to attainment in 2000, and both have measured CO concentrations well below the standard since that time.

² U.S. Census Bureau, 2008 Population Estimates.

³ Ibid.

In order to conserve resources, the State is seeking to discontinue monitoring in Lowell since current air quality levels do not warrant the additional expense of running a CO monitor in this area. The State has committed to continue CO monitoring in Worcester, and will reestablish CO monitoring in Lowell if air quality in Worcester degrades significantly. In Massachusetts (as in many other places), CO is primarily emitted by on and off-road mobile sources. Starting in the early 1970s, EPA has set national standards that have considerably reduced emissions of CO and other pollutants from motor vehicles, including tailpipe emissions, new vehicle technologies, and clean fuels programs. Moreover, the Massachusetts SIP requires that new or modified large stationary sources demonstrate that their emissions will not cause an exceedance of any NAAQS. Finally, growth is not likely to result in increased CO levels because the CO reductions described above have occurred even as vehicle miles traveled (VMT) have increased. (See VMT data in TSD.) For this reason, EPA believes that it is unlikely that the Lowell or Worcester maintenance area will exceed the CO NAAQS again. Thus, we believe that the revisions that Massachusetts has made to the Lowell maintenance plan will continue to protect the citizens of Massachusetts from high CO concentrations, and also conserve resources.

EPA is proposing to approve the Massachusetts SIP revision for the Carbon Monoxide Maintenance Plan for Lowell, which was submitted on April 14, 2010. EPA is soliciting public comments on the issues discussed in this notice or on other relevant matters. These comments will be considered before taking final action. Interested parties may participate in the Federal rulemaking procedure by submitting written comments to the EPA New England Regional Office listed in the ADDRESSES section of this Federal Register.

V. Proposed Action

EPA is proposing to approve the revisions to the Lowell CO maintenance plan submitted by the State of Massachusetts on April 14, 2010. Specifically, EPA is proposing approval of the State's request to modify the portion of the maintenance plan used to determine when contingency measures need to be implemented in Lowell. As described in more detail above, if this proposal is finalized, the State will shut down the Lowell CO monitor and rely on data from the CO monitor in Worcester to determine when and if monitoring will be reestablished in the Lowell maintenance area, and, in some circumstances, when contingency measures will be triggered in the Lowell maintenance area.

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this proposed action merely approves State law as meeting Federal requirements and does not impose additional requirements beyond those imposed by State law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Carbon monoxide, Intergovernmental relations, Reporting and recordkeeping requirements.

Authority: 42 U.S.C. 7401 et seq.

Dated: February 8, 2011.
H. Curtis Spalding,
Regional Administrator, EPA New England.

[FR Doc. 2011-3613 Filed 2-16-11; 8:45 am]

BILLING CODE 6560-50-P